DEPARTMENT OF AGRICULTURE

Submission for OMB Review; Comment Request

January 20, 2010.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Federal Plant Pest, Noxious Weed, and Garbage Regulations.

OMB Control Number: 0579-0054.

Summary of Collection: In accordance with Section 412 of the Plant Protection Act (Title IV, Pub. L. 106-224, 114 Stat. 438, 7 U.S.C. 7712), the Secretary of Agriculture is authorized to prohibit or restrict the importation, entry, exportation, or movement of interstate commerce of any plant, plant product, biological control organism, noxious weed, article, or means of conveyance, if the Secretary determines that the prohibition or restriction is necessary to prevent the introduction or dissemination of a plant pest or noxious weed within the United States. Animal and Plant Health Inspection Service's (APHIS) regulations implementing the Plant Protection Act are contained (in part) in part 330 of Title 7, Code of Federal Regulations and part 360 of Title 7, Code of Federal Regulations.

Need and Use of the Information: APHIS will collect information to evaluate the risk associated with the interstate movement of plant pest, noxious weeds, and soil. APHIS will also collect information to monitor operations at facility to ensure permit conditions are being met. The information is used to determine whether a permit can be issued, and also to develop risk-mitigating conditions for the proposed movement. If the information were not collected, APHIS ability to protect the United States from a plant pest or noxious weed incursion would be significantly compromised.

Description of Respondents: Business or other for-profit; Individuals or households; State, Local or Tribal Government.

Number of Respondents: 25,755.

Frequency of Responses: Recordkeeping; Reporting: On occasion.

Total Burden Hours: 15,717.

Animal Plant and Health Inspection Service

Title: Importation of Live Swine Pork and Pork Products and Swine Semen from the European Union,

OMB Control Number: 0579-0218,

Summary of Collection: The Animal Health Protection Act (AHPA) of 2002 is the primary Federal law governing the protection of health of animals under APHIS' regulatory authority. The Law gives the Secretary of Agriculture broad authority to detect, control, or eradicate pests or diseases of livestock or poultry. The Animal Plant and Health Inspection Service (APHIS) conducts disease prevention activities in accordance with regulations in Title 9, Chapter 1, Subchapter D, Parts 91 through 99, of the Code of Federal Regulations. These regulations govern the importation of animals, birds, and poultry products, and animal germplasm. Under these regulations, certain regions of the European Union are allowed to export into the United States live breeding swine, pork, and pork products and swine semen.

Need and Use of the Information: APHIS will collect information concerning the origin and history of the items destined for importation into the United States. APHIS will also collect information to ensure that swine, pork and pork products, and swine semen pose a negligible risk of introducing exotic swine diseases into the United States. If the information is not collected it would cripple APHIS ability to ensure that swine, pork and pork products, and swine semen pose a minimal risk of introducing classical swine fever and other exotic animal disease into the United States.

Description of Respondents: Business or other for profit; Federal Government.

Number of Respondents: 25.

Frequency of Responses: Reporting: On occasion.

Total Burden Hours: 8,242.

Ruth Brown,
Departmental Information Collection Clearance Officer.

[FR Doc. 2010-1354 Filed 1-22-10; 8:45 am]

BILLING CODE 3410-34-P